NATIONAL ARCHIVES AND RECORDS ADMINISTRATION

36 CFR Part 1228

[FDMS Docket NARA-07-0004]

RIN 3095-AB43

Federal Records Management; Media Neutral Schedules

AGENCY: National Archives and Records Administration.

ACTION: Correcting amendment.

SUMMARY: This document contains a correction to the final regulations, which were published in the Federal Register of Thursday, November 15, 2007 (72 FR 64155). The regulations allowed agencies to make new Federal records schedules and certain existing approved records schedules applicable to series of records regardless of the medium in which the records are created and maintained.

DATES: October 2, 2008.

FOR FURTHER INFORMATION CONTACT: Laura McCarthy at 301-837-1640.

SUPPLEMENTARY INFORMATION:

Background

The final regulations that are the subject of this correction made new Federal records schedules media neutral unless otherwise specified and allowed schedules previously approved for hard copy records to be applied to electronic versions of the files if certain conditions are met. The regulation applies to all Federal agencies, including the National Archives and Records Administration (NARA).

Need for Correction

As published, the final regulations contain an error in § 1228.24(b)(3); the paragraph requires an effective date and not the instruction to use the effective date of the rule.

List of Subjects in 36 CFR Part 1228

Archives and records.

Accordingly, 36 CFR part 1228 is corrected by making the following correcting amendment:

PART 1228-DISPOSITION OF FEDERAL RECORDS

1. The authority citation for part 1228 continues to read as follows:

Authority: 44 U.S.C. chs. 21, 29, and 33.

2. In § 1228.24, revise paragraph (b)(3) to read as follows:

§ 1228.24 Formulation of agency records schedules.

* * * * *

(b) * * *

(3) Records schedules submitted to NARA for approval on or after December 17, 2007, are media neutral, i.e., the disposition instructions apply to the described records in all media, unless the schedule identifies a specific medium for a specific series.

* * * * *

Dated: September 25, 2008.
Adrienne C. Thomas,
Deputy Archivist of the United States.

[FR Doc. E8-23379 Filed 10-1-08; 8:45 am]

BILLING CODE 7515-01-P